DEPARTMENT OF TRANSPORTATION

Federal Aviation Administration

14 CFR Part 39

[Docket No. FAA-2012-1289; Directorate Identifier 2012-NE-43-AD; Amendment 39-18591; AD 2016-14-10]

RIN 2120-AA64

Airworthiness Directives; CFM International, S.A. Turbofan Engines Modified by Supplemental Type Certificate SE00034EN

AGENCY: Federal Aviation Administration (FAA), DOT.

ACTION: Final rule; request for comments.

SUMMARY: We are superseding airworthiness directive (AD) 2013-02-02 for certain CFM International, S.A. CFM56-3, CFM56-3B, and CFM56-3C turbofan engines. AD 2013-02-02 required removal from service of certain high-pressure turbine (HPT) disks manufactured by Global Material Solutions of Pratt & Whitney, at reduced maximum life limits. This AD corrects the serial numbers (S/Ns) listed in AD 2013-02-02. This AD was prompted by reports that certain HPT disk S/Ns in AD 2013-02-02 and in certain Pratt & Whitney service information are incorrect. We are issuing this AD to prevent uncontained release of multiple turbine blades, damage to the engine, and damage to the airplane.

DATES: This AD is effective August 9, 2016.

The Director of the Federal Register approved the incorporation by reference of a certain publication listed in this AD as of August 9, 2016.

We must receive any comments on this AD by September 8, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Pratt & Whitney, 400 Main St., East Hartford, CT 06108; phone: 860-565-7700; fax: 860-565-1605. You may view this service information at the FAA, Engine & Propeller Directorate, 1200 District Avenue, Burlington, MA 01803. For information on the availability of this material at the FAA, call 781-238-7125. It is also available on the Internet at http://www.regulations.gov by searching for and locating Docket No. FAA-2012-1289.

Examining the AD Docket

You may examine the AD docket on the Internet at http://www.regulations.gov by searching for and locating Docket No. FAA-2012-1289; or in person at the Docket Management Facility between 9 a.m. and 5 p.m., Monday through Friday, except Federal holidays. The AD docket contains this AD, the mandatory continuing airworthiness information, regulatory evaluation, any comments received, and other information. The address for the Docket Office (phone: 800-647-5527) is in the ADDRESSES section. Comments will be available in the AD docket shortly after receipt.

FOR FURTHER INFORMATION CONTACT: Kenneth Steeves, Aerospace Engineer, Engine Certification Office, FAA, Engine & Propeller Directorate, 1200 District Avenue, Burlington, MA 01803; phone: 781-238-7765; fax: 781-238-7199; email: kenneth.steeves@faa.gov.

SUPPLEMENTARY INFORMATION:

Discussion

On January 14, 2013, we issued AD 2013-02-02, Amendment 39-17323 (78 FR 5712, January 28, 2013), (“AD 2013-02-02”) for all CFM56-3, CFM56-3B, and CFM56-3C turbofan engines modified by Supplemental Type Certificate SE00034EN, with certain HPT disks, installed. AD 2013-02-02 required removal from service of certain high-pressure turbine (HPT) disks manufactured by Global Material Solutions of Pratt & Whitney, at reduced maximum life limits. AD 2013-02-02 resulted from a report of a forging process error during manufacture of these HPT disks. We issued AD 2013-02-02 to prevent uncontained release of multiple turbine blades, damage to the engine, and damage to the airplane.

Actions Since AD 2013-02-02 Was Issued

Since we issued AD 2013-02-02, we received reports that certain HPT disk S/Ns GLKBAA9307, GLKBAA9335, GLKBAA9404, GLKBAA9407, and GLKBAA9409, in AD 2013-02-02 and in certain Pratt & Whitney service information are incorrect. The correct S/Ns are: GKLBAA9307, GKLBAA9335, GKLBAA9404, GKLBAA9407, and GKLBAA9409.

Related Service Information Under 1 CFR Part 51

We reviewed Pratt & Whitney Corp. Special Instruction No. 6F-12, Revision A, dated May 17, 2016. The Special Instruction describes procedures for reducing the maximum life limit for affected HPT disks. This service information is reasonably available because the interested parties have access to it through their normal course of business or by the means identified in the ADDRESSES section.

FAA's Determination

We are issuing this AD because we evaluated all the relevant information and determined the unsafe condition described previously is likely to exist or develop in other products of the same type design.

AD Requirements

This AD requires removal from service of affected HPT disks at certain recalculated reduced maximum life limits.

FAA's Justification and Determination of the Effective Date

No domestic operators use this product. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2012-1289; Directorate Identifier 2012-NE-43-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 0 engines installed on airplanes of U.S. registry. We also estimate that it will take about 61 hours per engine to comply with this AD. The average labor rate is $85 per hour. Required parts cost about $0 per engine. Based on these figures, we estimate the cost of this AD on U.S. operators to be $0.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-02-02, Amendment 39-17323 (78 FR 5712, January 28, 2013), (“AD 2013-02-02”), and adding the following new AD:

2016-14-10 CFM International, S.A. Turbofan Engines Modified by Supplemental Type Certificate SE00034EN: Amendment 39-18591; Docket No. FAA-2012-1289; Directorate Identifier 2012-NE-43-AD.

(a) Effective Date

This AD is effective August 9, 2016.

(b) Affected ADs

This AD supersedes AD 2013-02-02.

(c) Applicability

This AD applies to CFM International, S.A. CFM56-3, CFM56-3B, and CFM56-3C turbofan engines, modified by Supplemental Type Certificate SE00034EN, with a high-pressure turbine (HPT) disk, part number (P/N) 880026, serial number (S/N) GKLBAA9307, GKLBAA9335, GKLBAA9404, GKLBAA9407, or GKLBAA9409, installed.

(d) Unsafe Condition

This AD was prompted by reports that certain HPT disk serial numbers in AD 2013-02-02 and in certain Pratt & Whitney service information are incorrect. We are issuing this AD to prevent uncontained release of multiple turbine blades, damage to the engine, and damage to the airplane.

(e) Compliance

Comply with this AD within the compliance times specified, unless already done.

(1) For CFM56-3, CFM56-3B, and CFM56-3C turbofan engines operating to 20,100 lbs maximum takeoff (MTO) thrust, remove the HPT disk from service on or before accumulating 8,000 cycles-since-new (CSN).

(2) For CFM56-3B and CFM56-3C turbofan engines operating to 22,100 lbs MTO thrust, remove the HPT disk from service on or before accumulating 8,000 CSN.

(3) For CFM56-3C turbofan engines operating to 23,500 lbs MTO thrust, remove the HPT disk from service on or before accumulating 4,000 CSN.

(4) For HPT disks that have been used in multiple models or thrust installations, use the formula in the ADDED DATA section of Pratt & Whitney Special Instruction 6F-12, Revision A, dated May 17, 2016 to calculate the remaining life on the disk.

(f) Alternative Methods of Compliance (AMOCs)

The Manager, Engine Certification Office, FAA, may approve AMOCs for this AD. Use the procedures found in 14 CFR 39.19 to make your request. You may email your request to: ANE-AD-AMOC@faa.gov.

(g) Related Information

For more information about this AD, contact Kenneth Steeves, Aerospace Engineer, Engine Certification Office, FAA, Engine & Propeller Directorate, 1200 District Avenue, Burlington, MA 01803; phone: 781-238-7765; fax: 781-238-7199; email: kenneth.steeves@faa.gov.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Corp. Special Instruction No. 6F-12, Revision A, dated May 17, 2016.

(ii) Reserved.

(3) For Pratt & Whitney service information identified in this AD, contact Pratt & Whitney, 400 Main St., East Hartford, CT 06108; phone: 860-565-7700; fax: 860-565-1605.

(4) You may view this service information at FAA, Engine & Propeller Directorate, 1200 District Avenue, Burlington, MA 01803. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on July 11, 2016.
Colleen M. D'Alessandro,
Manager, Engine & Propeller Directorate, Aircraft Certification Service.

[FR Doc. 2016-17442 Filed 7-22-16; 8:45 am]

BILLING CODE 4910-13-P